DEPARTMENT OF ENERGY

Federal Energy Regulatory Commission

[Docket No. ER02-1256-000]

GA Power Marketing, L.P.; Notice of Filing

March 12, 2002.

Take notice that on March 5, 2002, GA Power Marketing, L.P. (GAPM) tendered for filing an original tariff sheet for authority to sell electricity at market-based rates under Section 205(a) of the Federal Power Act, 16 U.S.C. 824d(a), and accompanying requests for certain blanket approvals and for the waiver of certain Commission regulations.

GAPM is a limited partnership that intends to engage in wholesale electric energy purchases and sales as a power marketer. GAPM is not in the business of generating or transmitting electric power. GAPM is a limited partnership which has Global Operations Services, Inc. as its general partner. Global Operations Services, Inc. is a wholly-owned subsidiary of Global Advisors Limited which, through its affiliates, is involved primarily in investment management.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Comment Date: March 26, 2002.

Magalie R. Salas,
Secretary.

[FR Doc. 02-6892 Filed 3-21-02; 8:45 am]

BILLING CODE 6717-01-P